DEPARTMENT OF TRANSPORTATION

Federal Highway Administration

Environmental Impact Statement: Clark County, WA

AGENCY: Federal Highway Administration (FHWA), USDOT.

ACTION: Notice of intent to prepare an Environmental Impact Statement (EIS).

SUMMARY: The Federal Highway Administration is issuing this notice to advise the public and Indian Tribes that an Environmental Impact Statement (EIS) will be prepared for the proposed SR 502 Corridor Widening Project in Clark County, Washington.

DATES: Written comments on the purpose and need, scope of alternatives, and impacts to be considered in the EIS must be received no later than June 10, 2008 and must be sent to the Washington State Department of Transportation (WSDOT) at the address indicated below.

Scoping Meeting Date: One public information meeting will be held on May 20, 2008, 4 p.m.-7 p.m. at the Cherry Grove Friends Church, 9100 NE 219th Street, Battle Ground, Washington.

Oral and written comments may be given at the public meeting. This and all other public meetings will be accessible to persons with disabilities who may also request this information be prepared and supplied in alternate formats by calling Chris Tams at (360) 759-1310 or 1 (866) 279-0730 at least 48 hours in advance of the meeting for WSDOT to make the necessary arrangements. Persons who are deaf or hard of hearing may access Washington State Telecommunications Relay Service by dialing 7-1-1 and asking to be connected to (360) 759-1310.

ADDRESSES: Comments or questions concerning this proposal will be accepted at the public meeting or can be sent to Chris Tams, Area Engineer, Washington State Department of Transportation Southwest Region, P.O. Box 1709, Vancouver, WA 98668-1709; by Fax at (360) 905-2062; or by e-mail to SWGorge@wsdot.wa.gov.

FOR FURTHER INFORMATION CONTACT: Dean Moberg, Federal Highway Administration, 711 S. Capitol Way, Suite 501, Olympia, WA 98501, Telephone: (360) 534-9344 (direct) or (360) 753-9480 (general). Additional information on the SR 502 Corridor Widening Project can be found on the project Web site at: http://www.wsdot.wa.gov/Projects/SR502/Widening/.

SUPPLEMENTARY INFORMATION:

Proposed Action Background

The FHWA and WSDOT will prepare an EIS on the proposed widening of the SR 502 Corridor (NE 219th Street) in north Clark County from a two-lane roadway to a four lane roadway with a median barrier separating westbound and eastbound travel. The SR 502 Corridor Widening is proposed between NE 15th Avenue and NE 102nd Avenue, for a length of approximately 5 miles. The project also proposes to construct paved shoulders for pedestrian and bicycle use, stormwater facilities, and three new signalized intersections on SR 502 at NE 29th Avenue, NE 50th Avenue, and NE 92nd Avenue in addition to the existing signalized intersection on SR 502 at NE 72nd Avenue (Dollars Corner). These improvements are proposed to address the current and future deficiencies related to mobility and safety on the SR 502 corridor.

The SR 502 Corridor Widening Project began as an Environmental Assessment (EA) in early 2007. One agency scoping meeting and one public scoping meeting were held on February 22, 2007 to identify issues and concerns as well as provide input into establishing a range of alternatives for the project. A wide range of alternatives were considered between February and September 2007. Six “on-corridor” alternatives, including widening the existing facility directly to either the north or south of the existing facility, or equally on both sides from the centerline, were studied. Additionally, two “off-corridor” alternatives, which considered constructing a new roadway for SR 502 further north or south of the existing corridor, were studied. Four public open house meetings were held to gather public input on the range of alternatives being considered for the project on: March 27, 2007; May 9, 2007; June 14, 2007; and September 27, 2007. These public meetings resulted in strong public support for one “on-corridor” alternative, which was forwarded for further detailed environmental study along with the no action alternative. As draft environmental discipline studies of the possible effects of the potential alternatives were conducted, it was determined that the widening of the SR 502 corridor may substantially affect the quality of the human and natural environment and may benefit from a more detailed analysis. Therefore, the FHWA and WSDOT elected to prepare an EIS.

Alternatives

The ETS will address, at a minimum, the no action alternative and the following action alternative:

On-corridor Widening Alternative: This alternative would widen the existing SR 502 facility to four general purpose travel lanes from just west of NE 15th Avenue to NE 102nd Avenue. Along the entire SR 502 corridor, two lanes would be constructed in each direction with a median barrier separating westbound and eastbound travel between the four signalized intersections at NE 29th Avenue, NE 50th Avenue, NE 72nd Avenue (Dollars Corner), and NE 92nd Avenue. Paved shoulders that could be used by pedestrians and bicyclists would also be constructed the length of the corridor. Curb and sidewalk would accommodate additional pedestrian travel through the Dollars Corner rural commercial center between roughly NE 67th Avenue and the 7600 block of SR 502. Except at the four signalized intersections, turns to and from SR 502 would be restricted to right-in/right-out turning movements. Stormwater treatment facilities would collect, detain, treat, and discharge stormwater runoff from new impervious surface that results from the roadway widening.

Probable Effects

The FHWA and WSDOT will evaluate all transportation, environmental, social, and economic effects of the alternatives. Potential areas of impact include: Natural and cultural resources; land use; social and economic elements; and, traffic and noise. All effects will be evaluated for both the construction period and the long-term period of operation. Indirect and cumulative impacts will also be evaluated. Measures to avoid, minimize, and mitigate any significant effects will be developed.

Scoping

Agency Coordination: The project sponsors are working with the local, state and federal resource agencies to implement regular opportunities for coordination during the National Environmental Policy Act (NEPA) process. This process will comply with SAFETEA-LU section 6002.

Tribal Coordination: The formal Tribal government consultation will occur through government-to-government collaboration.

The date and address of the public scoping meeting is given in the DATES section above. The WSDOT assures full compliance with Title VI of the Civil Rights Act of 1964 by prohibiting discrimination based on race, color, national origin and sex in the provision of benefits and services. For language interpretation services please contact Chris Tams at (360) 759-1310 or 1 (866) 279-0730. For information on the WSDOT Title VI Program, please contact the Title VI Coordinator at (360) 705-7098.

To ensure that a full range of issues related to this proposed action are addressed and all significant issues identified, comments and suggestions are invited from interested parties. Comments or questions concerning this proposal will be accepted at the public meeting or may be sent to the Washington State Department of Transportation Southwest Region at the address provided above.

(Catalog of Federal Domestic Assistance Program Number 20.205, Highway Planning and Construction. The regulations implementing Executive Order 12372 regarding intergovernmental consultation on Federal Programs and activities apply to this program.)

Issued on: May 7, 2008.
Dean Moberg,
FHW Area Engineer, Olympia.

[FR Doc. E8-10734 Filed 5-14-08; 8:45 am]

BILLING CODE 4910-22-M